DEPARTMENT OF TRANSPORTATION

Federal Aviation Administration

14 CFR Part 39

[Docket No. FAA-2013-0943; Directorate Identifier 2013-SW-001-AD]

RIN 2120-AA64

Airworthiness Directives; AgustaWestland S.p.A. (Type Certificate Formerly Held by Agusta S.p.A.) (Agusta) Helicopters

AGENCY: Federal Aviation Administration (FAA), DOT.

ACTION: Notice of proposed rulemaking (NPRM).

SUMMARY: We propose to adopt a new airworthiness directive (AD) for Agusta Model A109C, A109E, A109K2, and A119 helicopters. This proposed AD would require recurring visual inspections of the tail rotor (T/R) blade retaining bolts (bolts) for a crack, corrosion, damage, or missing cadmium plating in the central part of the bolt. If a crack is not detected by the initial visual inspection then this proposed AD would require a liquid penetrant inspection. Replacing a cracked or damaged bolt would be required before further flight. This proposed AD is prompted by two reported incidents of cracked bolts. The proposed actions are intended to detect an unairworthy bolt and prevent failure of a bolt, release of a T/R blade, and subsequent loss of control of the helicopter.

DATES: We must receive comments on this proposed AD by January 21, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact AgustaWestland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, issued EASA AD No. 2013-0009, dated January 11, 2013, to correct an unsafe condition for the Agusta Model A109C, A109K2, A109E, and A119 helicopters, all serial numbers. EASA advises that cracks were reported in bolts, part number (P/N) 109-8131-09-1, installed on a Model A109K2 and a Model A109E helicopter. EASA further states that investigations conducted by Agusta revealed the cracks were in the same area of the bolts and corresponded with corrosion pits. EASA specified that this condition, if not detected and corrected, could cause damage to, or loss of, a T/R blade, possibly resulting in loss of control of the helicopter.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information

Agusta issued Bollettino Tecnico (BT) No. 109-135 for Model A109C helicopters, No. 109EP-125 for Model A109E helicopters, No. 109K-55 for Model A109K2 helicopters, and No. 119-052 for Model A119 helicopters. All of the BTs are dated December 19, 2012. The BTs specify to perform a visual inspection of bolt, P/N 109-8131-09-1, in accordance with the maintenance manual applicable to the model helicopter for condition, corrosion, and nicks. The BTs specify replacement of the bolt if there is any damage, even if minor, or if there is missing cadmium plating in the central part of the bolt. The BTs state that if a crack is not revealed from the visual inspection, then to perform a liquid penetrant inspection. The BTs further specify repeating the visual inspection of the bolts at intervals specific to the model helicopter. The BTs state the results of the inspections must be communicated to AgustaWestland.

Proposed AD Requirements

This proposed AD would require a visual inspection of each bolt, P/N 109-8131-09-1, for a crack, corrosion, a nick, other damage, or missing cadmium plating in the central part of the bolt. For bolts with less than 400 hours time-in-service (TIS), the inspection would be required before exceeding 500 hours TIS. For bolts with 400 or more hours TIS, the inspection would be required within 100 hours TIS or 2 months, whichever occurs first. If a crack is not detected by the visual inspection, this proposed AD would require a liquid penetrant inspection of the bolts in accordance with Annex A of the manufacturer's service information. Thereafter, this proposed AD would require repeating the visual inspection. For Model A109C helicopters, the inspections would be required at intervals not to exceed 300 additional hours TIS or 6 months, whichever occurs first. For Model A109E, A109K2, and A119 helicopters, the inspections would be required at intervals not to exceed 200 additional hours TIS or 6 months, whichever occurs first. If there is a crack, corrosion, damage, or missing cadmium plating in the central part of the bolt, this proposed AD would require replacing the bolt with an airworthy bolt before further flight. This proposed AD would also prohibit installing any bolt that has accumulated more than 400 hours TIS on any helicopter unless it has passed the visual and liquid penetrant inspections proposed in this AD.

Interim Action

We consider this proposed AD to be an interim action. If final action is later identified, we might consider additional rulemaking.

Costs of Compliance

We estimate that this proposed AD would affect 132 helicopters of U. S. Registry. We estimate that operators may incur the following costs in order to comply with this AD. We estimate it would take 2 work-hours to perform the initial visual and liquid penetrant inspections and 1 work-hour to perform each recurring visual inspection at an average labor cost of $85 per work-hour. Based on these figures, it would cost about $170 to perform the initial inspections and about $85 to perform each recurring visual inspection. A replacement bolt would cost approximately $1,067; no additional labor cost would be expected for replacement.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AgustaWestland S.p.A. (Type Certificate formerly held by Agusta S.p.A) (Agusta) Helicopters: Docket No. FAA-2013-0943; Directorate Identifier 2013-SW-001-AD.

(a) Applicability

This AD applies to Agusta Model A109C, A109E, A109K2, and A119 helicopters with a tail rotor blade retaining bolt (bolt), part number 109-8131-09-1, installed, certificated in any category.

(b) Unsafe Condition

This AD defines the unsafe condition as a crack in a bolt. This condition could result in failure of a bolt, release of a tail rotor blade, and subsequent loss of control of the helicopter.

(c) Comments Due Date

We must receive comments by January 21, 2014.

(d) Compliance

You are responsible for performing each action required by this AD within the specified compliance time unless it has already been accomplished prior to that time.

(e) Required Actions

For each bolt with less than 400 hours time-in-service (TIS), before exceeding 500 hours TIS on the bolt, and for each bolt with 400 or more hours TIS, before accumulating an additional 100 hours TIS or 2 months on the bolt, whichever occurs first:

(1) Visually inspect each bolt for a crack, damage, corrosion, a nick, or missing cadmium plating in the central part of the bolt.

(i) If there is a crack, corrosion, a nick, any other damage, or missing cadmium plating in the central part of the bolt, before further flight, replace the bolt with an airworthy bolt.

(ii) If there is not a crack as a result of the initial visual inspection as required by paragraph (e)(1) of this AD, liquid-penetrant inspect the bolt in accordance with Annex A of Agusta Bollettino Tecnico No. 109-135 for Model A109C helicopters, No. 109EP-125 for Model A109E helicopters, No. 109K-55 for Model A109K2 helicopters, or No. 119-052 for Model A119 helicopters, all dated December 19, 2012, as applicable to your model helicopter. If there is a crack, before further flight, replace the bolt with an airworthy bolt.

(2) Thereafter, for Agusta Model A109C helicopters, repeat the required actions of paragraph (e)(1) of this AD at intervals not to exceed 300 additional hours TIS or 6 months, whichever occurs first. For Agusta Model A109E, A109K2, and A119 helicopters, repeat the required actions of paragraph (e)(1) of this AD at intervals not to exceed 200 additional hours TIS or 6 months, whichever occurs first.

(3) Do not install a bolt that has accumulated more than 400 hours TIS on any helicopter unless it has passed the required actions of paragraph (e)(1) of this AD.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2013-0009, dated January 11, 2013. You may view the EASA AD in the AD Docket on the Internet at http://www.regulations.gov.

(h) Subject

Joint Aircraft Service Component (JASC) Code: 6400, Tail Rotor.

Issued in Fort Worth, Texas, on October 30, 2013.
Kim Smith,
Directorate Manager, Rotorcraft Directorate, Aircraft Certification Service.

[FR Doc. 2013-27634 Filed 11-19-13; 8:45 am]

BILLING CODE 4910-13-P